DEPARTMENT OF JUSTICE

Notice of Lodging of Consent Decree Pursuant to the Emergency Planning and Community Right to Know Act

Pursuant to 28 CFR 50.7, notice is hereby given that a proposed consent decree embodying a settlement in United States v. Foster Poultry Farms, No. CIV 00-6869 OWW DLB, was lodged on November 1, 2000, with the United States District Court for the Eastern District of California.

In a complaint filed concurrently with the lodging of the consent decree, the United States seeks penalties, pursuant to the Emergency Planning and Community Right to Know Act (EPCRA), 42 U.S.C. 11045, alleging that the defendant failed to submit a Form R reporting that it manufactured, processed, or otherwise used various toxic chemicals for numerous facilities in California and Oregon.

Under the proposed consent decree, the settling defendant has agreed to spend a minimum of $549,000 performing supplemental environmental projects, including the installation and operation of automated anhydrous ammonia leak detection devices at five of its facilities, and the installation and operation of an ammonia refrigeration valve control system at one of its facilities. Settling defendant has also agreed to pay a civil penalty in the amount of $125,000 within thirty days of the entry of the consent decree by the District Court.

The Department of Justice will receive, for a period of thirty (30) days from the date of this publication, comments relating to the proposed consent decree. Comments should be addressed to the Assistant Attorney General for the Environment and Natural Resources Division, U.S. Department of Justice, Box 7611 Ben Franklin Station, Washington, D.C. 20044-7611, and should refer to United States v. Foster Poultry Farms, DOJ Ref. #90-11-2-06483.

The proposed consent decree may be examined at the Office of the United States Attorney for the Eastern District of California, 1130 O Street, Fresno, California 93721. A copy of the proposed consent decree may also be obtained by mail from the Department of Justice Consent Decree Library, Box 7611, Ben Franklin Station, Washington, D.C. 20044-7611. In requesting a copy, please refer to the referenced case and enclose a check in the amount of $4.75 (25 cents per page reproduction costs), payable to the Consent Decree Library. A copy of the decree, exclusive of the signature pages and the attachments, may be obtained for $3.50.

Walker Smith,
Principal Deputy Chief, Environmental Enforcement Section, Environmental and Natural Resources Division.

[FR Doc. 00-29980 Filed 11-22-00; 8:45 am]

BILLING CODE 4410-15-M